DEPARTMENT OF COMMERCE

International Trade Administration

Application(s) for Duty-Free Entry of Scientific Instruments

Pursuant to Section 6(c) of the Educational, Scientific and Cultural Materials Importation Act of 1966 (Pub. L. 89-651, as amended by Public Law 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before October 31, 2012. Address written comments to Statutory Import Programs Staff, Room 3720, U.S. Department of Commerce, Washington, DC 20230. Applications may be examined between 8:30 a.m. and 5 p.m. at the U.S. Department of Commerce in Room 3720.

Docket Number: 12-036. Applicant: Michigan State University, 2555 Engineering Building Department of Mechanical Engineering, East Lansing, MI 48824-1226. Instrument: Diode Pumped High speed Nd:YAG laser system. Manufacturer: Edgewave GmbH, Germany. Intended Use: The instrument will be used as a diagnostics equipment to study high temperature combustion occurring in a laboratory combustor with highly turbulent flows, specifically to detect chemical species of combustion in conditions that are similar to actual engine operating conditions. The system will be used to pump a dye laser to generate ultra-violet light which can be used to rack chemical species during combustion, such as hydroxyl (OH) radicals. The hydroxyl which is excited using ultraviolet light (283 nm) will then fluoresce and can be detected using an intensified CCD camera. The key requirements that this system fulfills are the beam profile of M²<2, to ability to perform sub 10 ns pulses with all the different specifications, and the crystals inside are all temperature controlled to phase match regardless of the outside temperature fluctuations. Justification for Duty-Free Entry: There are no instruments of the same general category manufactured in the United States. Application accepted by Commissioner of Customs: August 30, 2012.

Dated: October 4, 2012.
Gregory W. Campbell,
Director of Subsidies Enforcement, Import Administration.

[FR Doc. 2012-25052 Filed 10-10-12; 8:45 am]

BILLING CODE 3510-DS-P